DEPARTMENT OF TRANSPORTATION

Office of the Secretary

Aviation Proceedings, Agreements Filed the Week Ending December 22, 2006

The following Agreements were filed with the Department of Transportation under the Sections 412 and 414 of the Federal Aviation Act, as amended (49 U.S.C. 1383 and 1384) and procedures goving proceeding to enforce these provisions. Answers may be filed within 21 days after the filing of the application.

Docket Number: OST-2006-26662.

Date Filed: December 18, 2006.

Parties: Members of the International Air Transport Association.

Subject: TC3 Japan-Korea, Expedited Resolution 002kk, (Memo 1011), Intended effective date: 15 January 2007.

Docket Number: OST-2006-26663.

Date Filed: December 18, 2006.

Parties: Members of the International Air Transport Association.

Subject: TC3 Within South East Asia, except between Malaysia and Guam, Expedited Resolutions, (Memo 1017), Intended effective date: 15 January 2007.

Docket Number: OST-2006-26664.

Date Filed: December 18, 2006.

Parties: Members of the International Air Transport Association.

Subject: TC3 South East Asia—South Asian Subcontinent, Expedited Resolution 002ma, (Memo 1018), Intended effective date: 15 January 2007.

Docket Number: OST-2006-26665.

Date Filed: December 18, 2006.

Parties: Members of the International Air Transport Association.

Subject: TC3 Within South West Pacific, except between French Polynesia, New Caledonia and, American Samoa, Expedited Resolutions, (Memo 1019), Intended effective date: 15 January 2007.

Docket Number: OST-2006-26666.

Date Filed: December 18, 2006.

Parties: Members of the International Air Transport Association.

Subject: TC3 Japan, Korea-South East Asia, except between Korea and Guam, Northern Mariana Islands, Expedited Resolution 002bb, (Memo 1020), Intended effective date: 15 January 2007.

Docket Number: OST-2006-26667.

Date Filed: December 18, 2006.

Parties: Members of the International Air Transport Association.

Subject: TC3 Areawide, Expedited Resolution 250m, (Memo 1021), Intended effective date: 15 January 2007.

Docket Number: OST-2006-26668.

Date Filed: December 18, 2006.

Parties: Members of the International Air Transport Association.

Subject: TC23 Europe-South East Asia, Expedited Resolutions, (Memo 0244), Intended effective date: 7 January 2007.

Docket Number: OST-2006-26699.

Date Filed: December 20, 2006.

Parties: Members of the International Air Transport Association.

Subject: Mail Vote 524—Resolution 010h, TC2 Special Passenger Amending Resolution, From Israel (IL) to Europe, (Memo 0234), Intended effective date: 1 January 2007.

Docket Number: OST-2006-26700.

Date Filed: December 20, 2006.

Parties: Members of the International Air Transport Association.

Subject: Mail Vote 522—Resolution 010aa, CTC COMP Special, Cargo Amending Resolution—Bulgaria and Romania, (Memo 0585), Intended effective date: 1 January 2007.

Docket Number: OST-2006-26701.

Date Filed: December 20, 2006.

Parties: Members of the International Air Transport Association.

Subject: Minutes: TC31/TC123 Passenger Tariff Coordinating Conference, Bangkok, 23 October-28 October 2006, TC31 North and Central Pacific Minutes, TC123 Minutes, (Memo 0398), Agreement: Mail Vote 523—Resolution 010g, TC31 North & Central Pacific, Special Passenger Amending Resolution, from Korea (Rep. of) to Canada, Mexico, Caribbean, (Memo 0399), Intended effective date: 15 January 2007.

Barbara J. Hairston,
Supervisory Docket Officer, Docket Operations, Alternate Federal Register Liaison.

[FR Doc. E6-22608 Filed 1-4-07; 8:45 am]

BILLING CODE 4910-9X-P